DEPARTMENT OF THE TREASURY

Internal Revenue Service

26 CFR Part 1

Determination of Adjusted Applicable Federal Rates Under Section 1288 and the Adjusted Federal Long-Term Rate Under Section 382

CFR Correction

In Title 26 of the Code of Federal Regulations, Part 1 (§§ 1.301 to 1.400), revised as of April 1, 2018, on page 670, in § 1.382-1, the introductory text is revised to read as follows:

§ 1.382-1 Table of Contents.

This section lists the captions that appear in the regulations for §§ 1.382-2 through 1.382-12.

* * * * *

[FR Doc. 2019-06831 Filed 4-4-19; 8:45 am]

BILLING CODE 1301-00-D